DEPARTMENT OF HEALTH AND HUMAN SERVICES

Administration for Children and Families

Office of Child Support Enforcement Privacy Act of 1974; System of Records

AGENCY: Office of Child Support Enforcement, ACF, HHS.

ACTION: Notice of the rescission, establishment, and amendment of systems of records.

SUMMARY: In accordance with the requirements of the Privacy Act of 1974 (5 U.S.C. 552a), as amended, the Office of Child Support Enforcement (OCSE) is publishing notice that it will rescind a notice of a system of records entitled “Location and Collection System,” 09-90-0074, establish two new systems of records entitled “OCSE National Directory of New Hires” and “OCSE Debtor File,” and amend an existing system of records entitled “OCSE Federal Case Registry of Child Support Orders.”

DATES: The Department of Health and Human Services (HHS) invites interested parties to submit written comments on the proposed rescission, establishment and amendment to its systems of records notices until February 4, 2011. As required by the Privacy Act (5 U.S.C. 552a(r)), HHS on December 22, 2010 sent reports of the establishment of new systems of records (which included the proposed rescission of an existing system) and an amendment of a system of records to the Committee on Homeland Security and 22 Governmental Affairs of the Senate, the Committee on Oversight and Government Reform of the House of Representatives and the Office of Information and Regulatory Affairs of the Office of Management and Budget (OMB). The proposed rescission, establishment and amendment described in this notice is effective on February 4, 2011, unless HHS receives comments which result in a contrary determination.

ADDRESSES: Interested parties may submit written comment on this notice by writing to Linda Deimeke, Director, Division of Federal Systems, Office of Automation and Program Operations, Office of Child Support Enforcement, Administration for Children and Families, 370 L'Enfant Promenade, SW., 4th Floor East, Washington, DC 20447. Comments received will be available for public inspection at this address from 9 a.m. to 5 p.m. ET, Monday through Friday.

FOR FURTHER INFORMATION CONTACT: Linda Deimeke, Director, Division of Federal Systems, Office of Automation and Program Operations, Office of Child Support Enforcement, Administration for Children and Families, 370 L'Enfant Promenade, SW., 4th Floor East, Washington, DC 20447, (202) 401-5439.

SUPPLEMENTARY INFORMATION: OCSE's system of records, Location and Collection System (LCS), 09-90-0074, last published at 72 FR 51446 (September 7, 2007), currently maintains the records of the National Directory of New Hires database and the Offset File database. By this notice, OCSE proposes to rescind the notice of the LCS system of records and to separate the NDNH and Offset databases by establishing two new systems of records, the National Directory of New Hires (NDNH), No. 09-80-0381 and the Debtor File, No. 09-80-0383. The NDNH system of records will maintain records currently held in the LCS' NDNH database and the Debtor File will maintain records currently held in the LCS' Offset File database. The separation and redesignation of LCS records is intended to more accurately reflect the purposes for which the records in the system may be used. OCSE also proposes to amend the notice of its system of records, the Federal Case Registry of Child Support Orders (FCR), No. 09-80-0202, last published at 73 FR 20306 (April 15, 2008). A Notice of Proposed Rulemaking to be published in the Federal Register for public comment will request an exemption for the FCR from the provisions of the Privacy Act based on section (k)(2) of the Privacy Act. (5 U.S.C. 552a(k)(2)). The exemption for the FCR will be effective 30 days after publication of the final rule establishing the exemption.

Dated: December 16, 2010.
Vicki Turetsky,
Commissioner, Office of Child Support Enforcement.

System number:

09-80-0381. This system was formerly part of OCSE Location and Collection System HHS, OCSE (09-90-0074).

System name:

OCSE National Directory of New Hires (NDNH) HHS/ACF/OCSE.

Security classification:

None.

System location:

National Computer Center, Social Security Administration, Baltimore, MD 21235.

Categories of individuals covered by the system:

1. Individuals who are newly hired “employees” within the meaning of chapter 24 of the Internal Revenue Code of 1986, 26 U.S.C. 3401, whose employers have furnished specified information to a State Directory of New Hires which, in turn, has furnished such information to the National Directory of New Hires pursuant to 42 U.S.C. 653a(g)(2)(A);

2. Individuals who are Federal government employees whose employers have furnished specified information to the National Directory of New Hires pursuant to 42 U.S.C. 653(n). This category does not including individuals who are employees of a department, agency, or instrumentality performing intelligence or counterintelligence functions, if the head of such department, agency, or instrumentality has determined that filing such a report could endanger the safety of the employee or compromise an ongoing investigation or intelligence mission; and

3. Individuals to whom unemployment compensation or wages have been paid and about whom the State Directory of New Hires has furnished such information to the National Directory of New Hires pursuant to 42 U.S.C. 653a(g)(2)(B).

Categories of records in the system:

1. Records pertaining to newly hired employees furnished by a State Directory of New Hires pursuant to 42 U.S.C. 653a(g)(2)(A). Records in the system are the name, address, and Social Security number (SSN) of the employee, the name, address and Federal identification number of the employer of such employee and, at the option of the State, the date of birth, date of hire or State of hire of the employee.

2. Records pertaining to newly hired employees furnished by a Federal department, agency or instrumentality pursuant to 42 U.S.C. 653a(b)(1)(C). Records in the system are the name, address and SSN of the employee and the name, address and the employer identification number of the employer.

3. Records furnished by a State Directory of New Hires pertaining to wages and unemployment compensation paid to individuals pursuant to 42 U.S.C. 653a(g)(2)(B).

4. Records furnished by a Federal department, agency, or instrumentality pertaining to wages paid to individuals pursuant to 42 U.S.C. 653(n).

Authority for maintenance of the system:

42 U.S.C. 653(i).

Purposes:

The Office of Child Support Enforcement (OCSE) uses the NDNH primarily to assist States administering programs that improve States' abilities to locate parents, establish paternity, and collect child support. The NDNH is also used to support other programs as specified in sections 453 and 463 of the Social Security Act (42 U.S.C. 653, 663): Temporary Assistance for Needy Families; child and family services; foster care and adoption assistance; establishing or verifying eligibility of applicants for, or beneficiaries of benefit programs; recouping payments or delinquent debts under benefit programs; and for certain research purposes likely to contribute to achieving the purposes of the Temporary Assistance for Needy Families (TANF) or the Federal/State child support program.

Routine uses of records maintained in the system, including categories of users and the purposes of such uses:

These routine uses specify circumstances under which ACF may disclose information from this system of records without the consent of the data subject. Each proposed disclosure of information under these routine uses will be evaluated to ensure that the disclosure is legally permissible, including but not limited to ensuring that the purpose of the disclosure is compatible with the purpose for which the information was collected.

Any information defined as “return” or “return information” under 26 U.S.C. 6103 (Internal Revenue Code) will not be disclosed unless authorized by a statute, the Internal Revenue Service (IRS) or IRS regulations.

1. Disclosure for Child Support Purposes

Pursuant to 42 U.S.C. 653(a)(2), 653(b)(1)(A) and 653(c), information about the location of an individual or information that would facilitate the discovery of the location of an individual or identifying information about the individual may be disclosed, upon request filed in accordance with law, to an “authorized person” for the purpose of establishing parentage or establishing, setting the amount of, modifying or enforcing child support obligations. Other information that may be disclosed is information about an individual's wages (or other income) from, and benefits of, employment, and information on the type, status, location, and amount of any assets of, or debts owed by or to, the individual. An “authorized person” is defined under 42 U.S.C. 653(c) as follows: (1) Any agent or attorney of a State who has a duty or authority to seek or recover any amounts owed as child and spousal support or to seek to enforce orders providing child custody or visitation rights; (2) a court which has authority to issue an order against a noncustodial parent for support of a child, or to issue an order against a resident parent for child custody or visitation rights, or any agent of such court; (3) the resident parent, legal guardian, attorney, or agent of a child that is not receiving assistance under a State program funded under title IV-A of the Social Security Act (Temporary Assistance to for Needy Families); and (4) a State agency that is administering a program operated under title IV-B (child and family services programs) or IV-E (Foster Care and Adoption Assistance programs) of the Social Security Act.

2. Disclosure for Purposes Related to the Unlawful Taking or Restraint of a Child or Child Custody or Visitation

Pursuant to 42 U.S.C. 653(b)(1)(A), upon request of an “authorized person,” as defined in 42 U.S.C. 663(d)(2), information as to the most recent address and place of employment of a parent or child may be disclosed for the purpose of enforcing any State or Federal law with respect to the unlawful taking or restraint of a child or making or enforcing a child custody or visitation determination.

3. Disclosure to Department of State under International Child Abduction Remedies Act

Pursuant to 42 U.S.C. 663(e), the most recent address and place of employment of a parent or child may be disclosed upon request to the Department of State, in its capacity as the Central Authority designated in accordance with section 7 of the International Child Abduction Remedies Act, 42 U.S.C. 11601 et seq., for the purpose of locating the parent or child on behalf of an applicant.

4. Disclosure to a Foreign Reciprocating Country for Child Support Purposes

Pursuant to 42 U.S.C. 659a(c)(2), information on the State of residence of an individual sought for support enforcement purposes in cases involving residents of the United States and residents of foreign countries that are the subject of a declaration may be disclosed to a foreign reciprocating country.

5. Disclosure to the Treasury for Tax Administration Purposes

Pursuant to 42 U.S.C. 653(i)(3), information may be disclosed to the Secretary of the Treasury for purposes of administering 26 U.S.C. 32 (earned income tax credit), administering 26 U.S.C. 3507 (advance payment of earned income tax credit) or verifying a claim with respect to employment in a tax return.

6. Disclosure to the Social Security Administration for Verification

Pursuant to 42 U.S.C. 653(j)(1), the names, SSNs, and birth dates of individuals about whom information is maintained may be disclosed to the Social Security Administration to the extent necessary for verification of the information by the Social Security Administration.

7. Disclosure for Locating an Individual for Paternity Establishment or in Connection with a Support Order

Pursuant to 42 U.S.C. 653(j)(2), the results of a comparison between records in this system and the Federal Case Registry of Child Support Orders may be disclosed to the State IV-D child support enforcement agency responsible for the case for the purpose of locating an individual in a paternity establishment case or a case involving the establishment, modification or enforcement of a support order.

8. Disclosure to State Agencies Operating Specified Programs

Pursuant to 42 U.S.C. 653(j)(3), information may be disclosed to a State to the extent and with the frequency that the Secretary determines to be effective in assisting the State to carry out its responsibilities under child support programs operated under 42 U.S.C. 651 through 669b (Title IV-D of the Social Security Act, Child Support and Establishment of Paternity), child and family services programs operated under 42 U.S.C. 621 through 639 (Title IV-B of the Social Security Act), Foster Care and Adoption Assistance programs operated under 42 U.S.C. 670 through 679A (Title IV-E of the Social Security Act) and assistance programs funded under 42 U.S.C. 601 through 619 (Title IV-A of the Social Security Act, Temporary Assistance for Needy Families).

9. Disclosure to the Commissioner of Social Security

Pursuant to 42 U.S.C. 653(j)(4), information may be disclosed to the Commissioner of Social Security for the purpose of verifying eligibility for Social Security Administration programs and administering such programs.

10. Disclosure for Authorized Research Purposes

Pursuant to 42 U.S.C. 653(j)(5), data in the NDNH, including information reported by employers pursuant to 42 U.S.C. 653a(b), may be disclosed, without personal identifiers, for research purposes found by the Secretary to be likely to contribute to achieving the purposes of 42 U.S.C. 651 through 669b (Title IV-D of the Social Security Act, Child Support and Establishment of Paternity) and 42 U.S.C. 601 through 619 (Title IV-A of the Social Security Act, Temporary Assistance for Needy Families).

11. Disclosure to Secretary of Education for Collection of Defaulted Student Loans

Pursuant to 42 U.S.C. 653(j)(6), the results of a comparison of information in this system with information in the custody of the Secretary of Education may be disclosed to the Secretary of Education for the purpose of collection of debts owed on defaulted student loans, or refunds on overpayments of grants, made under title IV of the Higher Education Act of 1965 (20 U.S.C. 1070 et seq. and 42 U.S.C. 2751 et seq.) and, after removal of personal identifiers, for the purpose of conducting analyses of student loan defaults.

12. Disclosure to Secretary of Housing and Urban Development for Verification Purposes

Pursuant to 42 U.S.C. 653(j)(7), information regarding an individual participating in a housing assistance program (United States Housing Act of 1937 (42 U.S.C. 1437 et seq.); 12 U.S.C. 1701s, 1701q, 1715l(d)(3), 1715l(d)(5), 1715z-1; or 42 U.S.C. 8013) may be disclosed to the Secretary of Housing and Urban Development for the purpose of verifying the employment and income of the individual and, after removal of personal identifiers, for the purpose of conducting analyses of the employment and income reporting of such individuals.

13. Disclosure to State Unemployment Compensation Agency for Program Purposes

Pursuant to 42 U.S.C. 653(j)(8), information on an individual for whom a State agency administering an unemployment compensation program under Federal or State law has furnished the name and Social Security number, and information on such individual's employer, may be disclosed to the State agency for the purposes of administering the unemployment compensation program.

14. Disclosure to Secretary of the Treasury for Debt Collection Purposes

Pursuant to 42 U.S.C. 653(j)(9), information pertaining to a person who owes the United States delinquent nontax debt and whose debt has been referred to the Secretary of the Treasury in accordance with 31 U.S.C. 3711(g), may be disclosed to the Secretary of the Treasury for purposes of collecting the debt.

15. Disclosure to State Agency for Food Stamp Program Purposes

Pursuant to 42 U.S.C. 653(j)(10), information on an individual and the individual's employer may be disclosed to a State agency responsible for administering a supplemental nutrition assistance program under the Food and Nutrition Act of 2008 (7 U.S.C. 2011 et seq.) for the purposes of administering the program.

16. Disclosure to the Secretary of Veterans Affairs for Verification Purposes

Pursuant to 42 U.S.C. 653(j)(11), information about an individual applying for or receiving the following benefits, compensation or services may be disclosed to the Secretary of Veterans Affairs for the purpose of verifying the employment and income of the individual and, after removal of personal identifiers, to conduct analyses of the employment and income reporting of such individuals: (i) Needs-based pension benefits provided under 38 U.S.C. chapter 15, or under any other law administered by the Secretary of Veterans Affairs; (ii) parents' dependency and indemnity compensation provided under 38 U.S.C. 1315; (iii) health care services furnished under subsections 38 U.S.C. 1710(a)(2)(G), (a)(3), (b); or (iv) compensation paid under 38 U.S.C. chapter 11, at the 100 percent rate based solely on unemployability and without regard to the fact that the disability or disabilities are not rated as 100 percent disabling under the rating schedule.

17. Disclosure for Law Enforcement Purpose

Records may be disclosed to the appropriate Federal, State, local, tribal, or foreign agency responsible for identifying, investigating, prosecuting, enforcing or implementing a statute, rule, regulation or order, if the information is relevant to a violation or potential violation of civil or criminal law or regulation within the jurisdiction of the receiving entity.

18. Disclosure to Department of Justice

Records may be disclosed to support the Department of Justice when: (1) HHS, or any component thereof; or (2) any employee of HHS in his or her official capacity; or (3) any employee of HHS in his or her individual capacity where the Department of Justice or HHS has agreed to represent the employee; or (4) the United States is a party to litigation or has an interest in such litigation, and the use of such records by the Department of Justice is deemed by HHS to be relevant and necessary to the litigation; provided, however, that in each case it has been determined that the disclosure is compatible with the purpose for which the records were collected.

19. Disclosure to Court or Adjudicative Body

Records may be disclosed to a court or adjudicative body when: (1) HHS, or any component thereof; or (2) any employee of HHS in his or her official capacity; or (3) any employee of HHS in his or her individual capacity where the Department of Justice or HHS has agreed to represent the employee; or (4) the United States is a party to litigation or has an interest in such litigation, and the use of such records is deemed by HHS to be relevant and necessary to the litigation; provided, however, that in each case it has been determined that the disclosure is compatible with the purpose for which the records were collected.

20. Disclosure to Contractor to Perform Duties

Records may be disclosed to a contractor performing or working on a contract for HHS and who has a need to have access to the information in the performance of its duties or activities for HHS in accordance with law and with the contract.

21. Disclosure in the Event of a Security Breach

Records may be disclosed to appropriate Federal agencies and Department contractors that have a need to know the information for the purpose of assisting the Department's efforts to respond to a suspected or confirmed breach of the security or confidentiality of information maintained in this system of records and the information disclosed is relevant and necessary for that assistance.

Disclosure to consumer reporting agencies:

None.

Policies and practices for storing, retrieving, accessing, retaining and disposing of records in the system:

Storage:

Records in the NDNH are stored electronically at the Social Security Administration's National Computer Center. Historical logs and system backups are stored off-site at an alternate location.

Retrievability:

Records maintained in the NDNH are retrieved by the SSN of the individual to whom the record pertains.

Safeguards:

Specific administrative, technical and physical controls are in place to ensure that the records collected and maintained in the NDNH are secure from unauthorized access.

Access to the records is restricted to authorized personnel who are advised of the confidentiality of the records and the civil and criminal penalties for misuse and who sign a nondisclosure oath to that effect. Personnel are provided privacy and security training before being granted access to the records and annually thereafter.

Logical access controls are in place to limit access to the records to authorized personnel and to prevent browsing. The records are processed and stored in a secure environment.

All records are stored in an area that is physically safe from access by unauthorized persons at all times.

Safeguards conform to the HHS Information Security Program, http://www.hhs.gov/ocio/securityprivacy/index.html.

Retention and disposal:

Records maintained in the NDNH are retained for 24 months after the date of entry and then deleted from the database pursuant to 42 U.S.C. 653(i)(2)(A). In accordance with 42 U.S.C. 653(i)(2)(B), OCSE shall not have access for child support enforcement purposes to quarterly wage and unemployment insurance information in the NDNH if 12 months have elapsed since the information is provided by a State Directory of New Hires pursuant to 42 U.S.C. 653A(g)(2)(B) and there has not been a match resulting from the use of such information in any information comparison. Notwithstanding these retention and disposal requirements, OCSE may retain such samples of data entered into the NDNH as OCSE may find necessary to assist in carrying out its responsibility to provide access to data in the NDNH for research purposes found by OCSE to be likely to contribute to achieving the purposes of Part A or Part D of Title IV of the Act, but without personal identifiers, pursuant to 42 U.S.C. 653(i)(2)(C), (j)(5). Samples are retained only so long as necessary to complete such research.

System manager and address:

Director, Division of Federal Systems, Office of Automation and Program Operations, Office of Child Support Enforcement, Administration for Children and Families, 370 L'Enfant Promenade, 4th Floor East, SW., Washington, DC 20447.

Notification procedures:

Individuals seeking to determine whether this system of records contains information about themselves should address written inquiries to the System Manager. The request should include the name, telephone number and/or email address, SSN, and address of the individual, and the request must be signed by the individual to whom such information pertains. The requester's letter must provide sufficient particulars to enable the System Manager to distinguish between records on subject individuals with the same name. Verification of identity as described in HHS's Privacy Act regulations may be required. 45 CFR 5b.5.

Record access procedures:

Individuals seeking access to a record about themselves in this system of records should address written inquiries to the System Manager. The request should include the name, telephone number and/or email address, SSN, and address of the individual, and should be signed by the individual to whom such information pertains. The requester's letter must provide sufficient particulars to enable the System Manager to distinguish between records on subject individuals with the same name. Verification of identity as described in HHS's Privacy Act regulations may be required. 45 CFR 5b.5.

Contesting record procedures:

Individuals seeking to amend a record about themselves in this system of records should address the request for amendment to the System Manager. The request should (1) Include the name, telephone number and/or email address, SSN, and address of the individual, and should be signed; (2) identify the system of records that the individual believes includes his or her records or otherwise provide enough information to enable the identification of the individual's record; (3) identify the information that the individual believes is not accurate, relevant, timely, or complete; (4) indicate what corrective action is sought; and (5) include supporting justification or documentation for the requested amendment. Verification of identity as described in HHS's Privacy Act regulations may be required. 45 CFR 5b.5.

Record source categories:

Information is obtained from departments, agencies, or instrumentalities of the United States or any State.

Exemptions claimed for the system:

None.

System number:

09-80-0383. This system was formerly part of OCSE Location and Collection System HHS, OCSE (09-90-0074).

System name:

OCSE Debtor File HHS/ACF/OCSE.

Security classification:

None.

System location:

National Computer Center, Social Security Administration, Baltimore, MD 21235.

Categories of individuals covered by the system:

Individuals owing past-due child support, as reported by a State agency administering a child support enforcement program pursuant to 42 U.S.C. 651 through 669b (Title IV, Part D, of the Social Security Act).

Categories of records in the system:

1. Records pertaining to individuals owing past-due child support, as indicated by a State agency administering a child support enforcement program. Categories of records in the system are the name and Social Security number (SSN) of such individual, the amount of past-due child support owed by the individual, adjustments to such amount, information on each enforcement remedy applicable to the individual to whom the record pertains, as indicated by a State IV-D child support agency; the amount of past-due support collected as a result of each such remedy; and a history of updates by the State agency to the records.

2. Records of the results of a comparison between records in the Debtor File pertaining to individuals owing past-due child support and information maintained by the Secretary of the Treasury concerning the following amounts payable to such individuals: refunds of Federal taxes; salary, wage and retirement benefits; vendor payments and expense reimbursement payments and travel payments;

3. Records of the results of a comparison between records in the Debtor File pertaining to individuals owing past-due child support and information provided by financial institutions doing business in two or more States, including the name, record address, SSN, or other identifying number of each such individual and information about any account held by the individual and maintained at such institution; and

4. Records of the results of a comparison between records in the Debtor File pertaining to individuals owing past-due child support and information maintained by insurers (or their agents) concerning insurance claims, settlements, awards, and payments to collect past-due child support from those sources.

Authority for maintenance of the system:

42 U.S.C. 652, 653 and 664.

Purposes:

The primary purpose of the Debtor File is to improve States' abilities to collect past-due child support by identifying sources of income and assets of individuals owing past-due child support. The Debtor File facilitates OCSE's execution of its responsibility to perform the following duties: assisting the Department of State with respect to denial, revocation or limitation of passports of individuals owing arrearages of child support in an amount exceeding $2,500 pursuant to 42 U.S.C. 652(k)(1); through the Federal Parent Locator Service (FPLS), to aid State IV-D agencies and financial institutions doing business in two or more States to identify sources of income at financial institutions for individuals owing past-due child support pursuant to 42 U.S.C. 652(l). (See also 42 U.S.C. 666(a)(17)(A)(i)); through the FPLS, to compare information regarding individuals owing past-due support with specified information maintained by insurers (or their agents) and furnish information resulting from the data matches to the State agencies responsible for collecting child support from the individuals pursuant to 42 U.S.C. 652(l) (to be redesignated 652(m)); to assist the Secretary of the Treasury in withholding from refunds of Federal taxes paid an amount owed by an individual owing past-due child support pursuant to 42 U.S.C. 664; and to assist State IV-D child support enforcement agencies in the collection of past-due child support through the administrative offset of certain Federal payments pursuant to the Debt Collection Improvement Act of 1996 (Pub. L. 104-134), Executive Order 13019, and 31 CFR 285. OCSE operates the FPLS pursuant to 42 U.S.C. 652(a)(9), and 42 U.S.C. 653(a)(1).

Routine uses of records maintained in the system, including categories of users and the purposes of such uses:

These routine uses specify circumstances under which ACF may disclose information from this system of records without the consent of the data subject. Each proposed disclosure of information under these routine uses will be evaluated to ensure that the disclosure is legally permissible, including but not limited to ensuring that the purpose of the disclosure is compatible with the purpose for which the information was collected.

Any information defined as “return” or “return information” under 26 U.S.C. 6103 (Internal Revenue Code) will not be disclosed unless authorized by a statute, the Internal Revenue Service (IRS) or IRS regulations.

1. Disclosure to the Treasury to Withhold Past-Due Support

Pursuant to 42 U.S.C. 664 and the Debt Collection Improvement Act of 1996 (Pub. L. 104-134), information pertaining to an individual owing past-due child support may be disclosed to the Secretary of the Treasury for the purpose of withholding the past-due support from amounts payable as refunds of Federal taxes; salary, wage and retirement payments; vendor payments; and expense reimbursement payments and travel payments.

2. Disclosure to State Department for Passport Purposes

Pursuant to 42 U.S.C. 652(k), information pertaining to an individual owing past-due child support in a specified amount, as certified by a State child support enforcement agency, may be disclosed to the Secretary of State for the purpose of revoking, restricting, limiting, or denying a passport to the individual.

3. Disclosure to Financial Institution to Collect Past-Due Support

Pursuant to 42 U.S.C. 652(l), information pertaining to an individual owing past-due child support may be disclosed to a financial institution doing business in two or more States to identify an individual who maintains an account at the institution for the purpose of collecting past-due support.

4. Disclosure to Insurer To Collect Past-Due Support

Pursuant to 42 U.S.C. 652(l) (to be redesignated (m)), information pertaining to an individual owing past-due child support may be disclosed to an insurer (or its agent) to identify an individual with an insurance claim, settlement, award or payment for the purpose of collecting past-due support.

5. Disclosure to State Child Support Enforcement Agency of Comparison Information for Assistance in Collecting Past-Due Support

Pursuant to 42 U.S.C. 664 and the Debt Collection Improvement Act 1996 (Pub. L. 104-134), the results of a comparison of information pertaining to an individual owing past-due child support and information maintained by the Secretary of Treasury pertaining to amounts payable to the individual for refunds of Federal taxes; salary, wage and retirement benefits; vendor payments; expense reimbursement payments; or travel payments may be disclosed to a State IV-D child support agency for the purpose of assisting State agencies in collecting past-due support.

5. Disclosure to Multistate Financial Institution for Assistance in Collecting Past-Due Support

Pursuant to 42 U.S.C. 652(l), the results of a comparison between information pertaining to an individual owing past-due child support and information on account holders provided by multistate financial institutions may be disclosed to a State child support agency for the purpose of assisting State agencies in collecting past-due support.

7. Disclosure of Insurance Information to State Child Support Enforcement Agency for Assistance in Collecting Past-Due Support

Pursuant to 42 U.S.C. 652(l) (to be redesignated subsection(m)), the results of a comparison between information pertaining to an individual owing past-due child support and information maintained by an insurer (or its agent) concerning insurance claims, settlements, awards, and payments may be disclosed to a State IV-D child support agency for the purpose of assisting State agencies in collecting past-due support.

8. Disclosure for Law Enforcement Purpose

Records may be disclosed to the appropriate Federal, State, local, tribal, or foreign agency responsible for investigating, prosecuting, enforcing, or implementing a statute, rule, regulation, or order, if the information is relevant to a violation or potential violation of civil or criminal law or regulation within the jurisdiction of the receiving entity.

9. Disclosure to Department of Justice

Records may be disclosed to support the Department of Justice when: (1) HHS, or any component thereof; or (2) any employee of HHS in his or her official capacity; or (3) any employee of HHS in his or her individual capacity where the Department of Justice or HHS has agreed to represent the employee; or (4) the United States is a party to litigation or has an interest in such litigation, and the use of such records by the Department of Justice is deemed by HHS to be relevant and necessary to the litigation; provided, however, that in each case it has been determined that the disclosure is compatible with the purpose for which the records were collected.

10. Disclosure to Court or Adjudicative Body

Records may be disclosed to a court or adjudicative body when: (1) HHS, or any component thereof; or (2) any employee of HHS in his or her official capacity; or (3) any employee of HHS in his or her individual capacity where the Department of Justice or HHS has agreed to represent the employee; or (4) the United States is a party to litigation or has an interest in such litigation, and the use of such records deemed by HHS to be relevant and necessary to the litigation; provided, however, that in each case it has been determined that the disclosure is compatible with the purpose for which the records were collected.

11. Disclosure to Contractor to Perform Duties

Records may be disclosed to a contractor performing or working on a contract for HHS and who has a need to have access to the information in the performance of their duties or activities for HHS in accordance with law and with the contract.

12. Disclosure in the Event of a Security Breach

Records may be disclosed to appropriate Federal agencies and Department contractors that have a need to know the information for the purpose of assisting the Department's efforts to respond to a suspected or confirmed breach of the security or confidentiality of information maintained in this system of records and the information disclosed is relevant and necessary for that assistance.

Disclosure to consumer reporting agencies:

None.

Policies and practices for storing, retrieving, accessing, retaining and disposing of records in the system:

Storage:

Records in the Debtor File are stored electronically at the Social Security Administration's National Computer Center. Historical logs and system backups are stored off-site at an alternate location.

Retrievability:

Records maintained in the Debtor File are retrieved by the SSN of the individual to whom the record pertains; provided, however, that for the purpose of comparing information in the Debtor File with information maintained by insurers (or their agents) concerning insurance claims, settlements, awards and payments, records in the Debtor File may be retrieved by the name of the individual and either the date of birth or the address of the individual.

Safeguards:

Specific administrative, technical, and physical controls are in place to ensure that the records collected and maintained in the Debtor File are secure from unauthorized access.

Access to the records is restricted to authorized personnel who are advised of the confidentiality of the records and the civil and criminal penalties for misuse and who sign a nondisclosure oath to that effect. Personnel are provided privacy and security training before being granted access to the records and annually thereafter.

Logical access controls are in place to limit access to the records to authorized personnel and to prevent browsing. The records are processed and stored in a secure environment.

All records are stored in an area that is physically safe from access by unauthorized persons at all times.

Safeguards conform to the HHS Information Security Program, http://www.hhs.gov/ocio/securityprivacy/index.html.

Retention and disposal:

Records maintained in the Debtor File are retained until the IV-D child support case is in deleted status and there has been no activity on the case for seven years and are then deleted. Records resulting from a comparison between the Debtor File and both records maintained by a financial institution doing business in two or more States and records maintained by an insurer (or its agent) concerning insurance claims, settlements, awards and payments, are retained for one year and are then deleted; provided, however, that after removal of personal identifiers, the results of a comparison may be retained for such period necessary to conduct analyses for the purpose of estimating potential collections of past-due support by State child support agencies and are then deleted. If an extract from the Debtor File is disclosed for a routine use to an authorized user, including the Secretary of the Treasury for the purpose of withholding past-due support from amounts payable as refunds of Federal taxes or specified payments, a copy of the extract is retained for one year and is then deleted.

System manager and address:

Director, Division of Federal Systems, Office of Automation and Program Operations, Office of Child Support Enforcement, Administration for Children and Families, Department of Health and Human Services, 370 L'Enfant Promenade, 4th Floor East, SW., Washington, DC 20447.

Notification procedures:

Individuals seeking to determine whether this system of records contains information about themselves should address written inquiries to the System Manager. The request should include the name, telephone number and/or email address, SSN, and address of the individual, and the request must be signed by the individual to whom such information pertains. The requester's letter must provide sufficient particulars to enable the System Manager to distinguish between records on subject individuals with the same name. Verification of identity as described in HHS's Privacy Act regulations may be required. 45 CFR 5b.5.

Record access procedures:

Individuals seeking access to a record about themselves in this system of records should address written inquiries to the System Manager. The request should include the name, telephone number and/or email address, SSN, and address of the individual, and should be signed by the individual to whom such information pertains. The requester's letter must provide sufficient particulars to enable the System Manager to distinguish between records on subject individuals with the same name. Verification of identity as described in HHS's Privacy Act regulations may be required. 45 CFR 5b.5.

Contesting record procedures:

Individuals seeking to amend a record about themselves in this system of records should address the request for amendment to the System Manager. The request should (1) include the name, telephone number and/or e-mail address, SSN, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in HHS's Privacy Act regulations may be required. 45 CFR 5b.5.

Record source categories:

Information is obtained from departments, agencies, or instrumentalities of the United States or any State and from multistate financial institutions and insurers (or their agents).

Exemptions claimed for the system:

None.

System Number:

09-80-0202.

System Name:

OCSE Federal Case Registry of Child Support Orders (FCR) HHS/ACF/OCSE.

Security Classification:

None.

System Location:

National Computer Center, Social Security Administration, Baltimore, Maryland 21235.

Categories of Individuals Covered by the System:

Individuals involved in child support cases in which services are being provided by the State IV-D child support agencies, and/or individuals who are subject to child support orders established or modified on or after October 1, 1998, and the children of such individuals.

Categories of Records in the System:

The FCR collects and maintains records provided by State child support registries. These records include abstracts of support orders and information from child support cases. The records may include the following information: name, Social Security number (SSN), State case identification number, State Federal Information Processing Standard (FIPS) code, county code, case type (cases in which services are being provided by the State child support agencies under Title IV-D of the Social Security Act and those cases in which services are not being provided by the State child support agencies), sex, date of birth, mother's maiden name, father's name, participant type (custodial party, noncustodial parent, putative father, child), family violence indicator (domestic violence or child abuse), indication of whether a child support or paternity order is in effect, purpose of request, source of location information. These records are maintained within the FCR and are regularly compared (matched) to the National Directory of New Hires (NDNH) and other Federal agencies' databases to locate information for the State child support agencies or other authorized persons.

The records disseminated, depending upon the requestor's specific authority, may include information retrieved from the FCR, from the NDNH, or from other Federal agencies. Records from the NDNH and other agencies disseminated through the FCR may include categories of information such as name, SSN, address, phone number, employer, employment status and wages, retirement status and pay, assets, military status and pay, Federal benefits status and amount, representative payees, unemployment status and amount, children's health insurance, incarceration status, financial institution accounts, assets, and date of death. The FCR also contains information related to those categories of records; for example, the date of receipt of Federal benefits.

The FCR also maintains: (1) Records (logs) of transactions involving the receipt of locate requests and the dissemination of requested information; (2) copies of the disseminated information for audit purposes; and (3) copies of certain disseminated locate information for the purpose of electronically filtering and suppressing the transmission of redundant locate information.

Authority for Maintenance of the System:

42 U.S.C. 653(h), 652(a)(9), 653(a)(1).

Purposes:

The Office of Child Support Enforcement (OCSE) uses the FCR primarily to assist States in administering programs under 42 U.S.C. 651 to 669b (Title IV-D of the Social Security Act, Child Support and Establishment of Paternity) to improve States' abilities to locate parents and collect child support. OCSE is required to compare records transmitted to or maintained within the FCR to records maintained within the NDNH and other Federal agencies' databases and discloses information about the individuals within the records to State child support agencies or other authorized persons. The information assists State child support agencies or other authorized persons by locating individuals and their employment and asset information who are involved in child support cases. The FCR also conducts FCR to FCR comparisons to locate information about individuals who are involved in child support cases in more than one State and provides the information to those States. Additional purposes of the FCR are specified in sections 453 and 463 of the Social Security Act (42 U.S.C. 653, 663 and include assisting States in administering programs under 42 U.S.C. 601 to 619 (Title IV-A of the Social Security Act, Temporary Assistance for Needy Families); assisting States in carrying out their responsibilities under child and family services programs operated under 42 U.S.C. 621 through 639 (Title IV-B of the Social Security Act), Foster Care and Adoption Assistance programs operated under 42 U.S.C. 670 through 679A (Title IV-E of the Social Security Act); providing locate information (State of residence) pertaining to individuals sought pursuant to the Convention on the Civil Aspects of International Child Abduction to authorized persons in a Central Authority; to assist the Attorney General of the United States in locating any parent or child for the purpose of enforcing State or Federal law with respect to the unlawful taking or restraint of a child, or making or enforcing a child custody or visitation determination; and to assist the Secretary of the Treasury in administering the sections of the Internal Revenue Code of 1986 which grant tax benefits based on support or residence of children. FCR records may also be disclosed for research purposes likely to contribute to achieving the purposes of the Temporary Assistance for Needy Families (TANF) or the Federal/State child support program.

Routine Uses of Records Maintained in the System, Including Categories of Users and the Purpose of Such Uses:

These routine uses specify circumstances under which ACF may disclose information from this system of records without the consent of the data subject. Each proposed disclosure of information under these routine uses will be evaluated to ensure that the disclosure is legally permissible, including but not limited to ensuring that the purpose of the disclosure is compatible with the purpose for which the information was collected.

If any record contains a “family violence indicator” associated to the record by State child support agencies if there is reasonable evidence of domestic violence or child abuse, and that disclosure could be harmful to the party or the child, the record may only be disclosed as determined by a court as provided in 42 U.S.C. 653(b)(2).

Any information defined as “return” or “return information” under 26 U.S.C. 6103 (Internal Revenue Code) will not be disclosed unless authorized by a statute, the Internal Revenue Service (IRS) or IRS regulations.

1. Disclosure for Child Support Purposes

Pursuant to 42 U.S.C. 653(a)(2), 653(b)(1)(A), and 653 (c), information about the location of an individual or information that would facilitate the discovery of the location of an individual may be disclosed, upon request filed in accordance with law, to an “authorized person” for the purpose of establishing parentage or establishing, setting the amount of, modifying or enforcing child support obligations. Information disclosed may include information about an individual's wages (or other income) from, and benefits of, employment, and information on the type, status, location, and amount of any assets of, or debts owed by or to, the individual. An “authorized person” is defined under 42 U.S.C. 653(c) as follows: (1) Any agent or attorney of a State who has a duty or authority to seek or recover any amounts owed as child and spousal support or to seek to enforce orders providing child custody or visitation rights; (2) a court which has authority to issue an order against a noncustodial parent for support of a child, or to issue an order against a resident parent for child custody or visitation rights, or any agent of such court; (3) the resident parent, legal guardian, attorney, or agent of a child that is not receiving assistance under a State program funded under title IV-A of the Social Security Act (Temporary Assistance to/for Needy Families); and (4) a State agency that is administering a program operated under title IV-B (child and family services programs) or IV-E (Foster Care and Adoption Assistance programs) of the Social Security Act.

2. Disclosure to any Department, Agency, or Instrumentality of the United States or of any State to Locate an Individual or Information Pertaining to an Individual

Pursuant to 42 U.S.C. 653(e)(1), information from the FCR (names and SSNs) may be disclosed to any department, agency, or instrumentality of the United States or of any State in order to obtain information for an “authorized person” as defined in 42 U.S.C. 653(c) which pertains to an individual's location, wages (or other income) from, and benefits of, employment (including rights to or enrollment in group health care coverage); on the type, status, location, and amount of any assets of, or debts owed by or to, the individual. An “authorized person” is defined under 42 U.S.C. 653(c) as follows: (1) Any agent or attorney of a State who has a duty or authority to seek or recover any amounts owed as child and spousal support or to seek to enforce orders providing child custody or visitation rights; (2) a court which has authority to issue an order against a noncustodial parent for support of a child, or to issue an order against a resident parent for child custody or visitation rights, or any agent of such court; (3) the resident parent, legal guardian, attorney, or agent of a child that is not receiving assistance under a State program funded under title IV-A of the Social Security Act (Temporary Assistance to for Needy Families); and (4) a State agency that is administering a program operated under title IV-B (child and family services programs) or IV-E (Foster Care and Adoption Assistance programs) of the Social Security Act.

3. Disclosure for Purposes Related to the Unlawful Taking or Restraint of a Child or Child Custody or Visitation

Pursuant to 42 U.S.C. 653(b)(1)(A), upon request of an “authorized person,” as defined in 42 U.S.C. 663(d)(2), or upon request of the Department of Justice, Office of Juvenile Justice and Delinquency Prevention, pursuant to 42 U.S.C. 663(f), information as to the most recent address and place of employment of a parent or child may be disclosed for the purpose of enforcing any State or Federal law with respect to the unlawful taking or restraint of a child or making or enforcing a child custody or visitation determination. “Authorized person” is defined in 42 U.S.C. 663(d)(2) as (A) any agent or attorney of any State having an agreement under this section, who has the duty or authority under the law of such State to enforce a child custody or visitation determination; (B) any court having jurisdiction to make or enforce such a child custody or visitation determination, or any agent of such court; and (C) any agent or attorney of the United States, or of a State having an agreement under this section, who has the duty or authority to investigate, enforce, or bring a prosecution with respect to the unlawful taking or restraint of a child.

4. Disclosure to the Social Security Administration for Verification

Pursuant to 42 U.S.C. 653(j)(1), the names, SSNs, and birth dates of individuals about whom information is maintained may be disclosed to the Social Security Administration to the extent necessary for verification of the information by the Social Security Administration.

5. Disclosure for Locating an Individual for Paternity Establishment or in Connection with a Support Order

Pursuant to 42 U.S.C. 653(j)(2)(B), the results of a comparison between records in this system and the National Directory of New Hires may be disclosed to the State IV-D child support enforcement agency responsible for the case for the purpose of locating an individual in a paternity establishment case or a case involving the establishment, modification, or enforcement of a support order.

6. Disclosure to State Agencies Operating Specified Programs

Pursuant to 42 U.S.C. 653(j)(3), information may be disclosed to a State to the extent and with the frequency that the Secretary determines to be effective in assisting the State to carry out its responsibilities under child support programs operated under 42 U.S.C. 651 through 669b (Title IV-D of the Social Security Act, Child Support and Establishment of Paternity), child and family services programs operated under 42 U.S.C. 621 through 639 (Title IV-B of the Social Security Act), Foster Care and Adoption Assistance programs operated under 42 U.S.C. 670 through 679A (Title IV-E of the Social Security Act) and assistance programs funded under 42 U.S.C. 601 through 619 (Title IV-A of the Social Security Act, Temporary Assistance for Needy Families).

7. Disclosure to Department of State under International Child Abduction Remedies Act

Pursuant to 42 U.S.C. 663(e), the most recent address and place of employment of a parent or child may be disclosed upon request to the Department of State, in its capacity as the Central Authority designated in accordance with Section 7 of the International Child Abduction Remedies Act, 42 U.S.C. 11601 et seq., for the purpose of locating the parent or child on behalf of an applicant.

8. Disclosure to Secretary of the Treasury for Certain Tax Purposes

Pursuant to 42 U.S.C. 653(h)(3), information may be disclosed to the Secretary of Treasury for the purpose of administering sections of the Internal Revenue Code which grant tax benefits based on support or residence of children.

9. Disclosure for Authorized Research Purposes

Pursuant to 42 U.S.C. 653(j)(5), data in the FCR may be disclosed, without personal identifiers, for research purposes found by the Secretary to be likely to contribute to achieving the purposes of 42 U.S.C. 651 through 669b (Title IV-D of the Social Security Act, Child Support and Establishment of Paternity) and 42 U.S.C. 601 through 619 (Title IV-A of the Social Security Act, Temporary Assistance for Needy Families).

10. Disclosure to a Foreign Reciprocating Country for Child Support Purposes

Pursuant to 42 U.S.C. 659a(c)(2), information on the State of residence of an individual sought for support enforcement purposes in cases involving residents of the United States and residents of foreign countries that are the subject of a declaration may be disclosed to a foreign reciprocating country.

11. Disclosure for Law Enforcement Purpose

Records may be disclosed to the appropriate Federal, State, local, tribal, or foreign agency responsible for identifying, investigating, prosecuting, enforcing or implementing a statute, rule, regulation or order, if the information is relevant to a violation or potential violation of civil or criminal law or regulation within the jurisdiction of the receiving entity.

12. Disclosure to Department of Justice

Records may be disclosed to support the Department of Justice when: (1) HHS, or any component thereof; or (2) any employee of HHS in his or her official capacity; or (3) any employee of HHS in his or her individual capacity where the Department of Justice or HHS has agreed to represent the employee; or (4) the United States is a party to litigation or has an interest in such litigation, and the use of such records by the Department of Justice is deemed by HHS to be relevant and necessary to the litigation; provided, however, that in each case it has been determined that the disclosure is compatible with the purpose for which the records were collected.

13. Disclosure to Court or Adjudicative Body

Records may be disclosed to a court or adjudicative body when: (1) HHS, or any component thereof; or (2) any employee of HHS in his or her official capacity; or (3) any employee of HHS in his or her individual capacity where the Department of Justice or HHS has agreed to represent the employee; or (4) the United States is a party to litigation or has an interest in such litigation, and the use of such records by the Department of Justice is deemed by HHS to be relevant and necessary to the litigation; provided, however, that in each case it has been determined that the disclosure is compatible with the purpose for which the records were collected.

14. Disclosure to Contractor to Perform Duties

Records may be disclosed to a contractor performing or working on a contract for HHS and who has a need to have access to the information in the performance of its duties or activities for HHS in accordance with law and with the contract.

15. Disclosure in the Event of a Security Breach

Records may be disclosed to appropriate Federal agencies and Department contractors that have a need to know the information for the purpose of assisting the Department's efforts to respond to a suspected or confirmed breach of the security or confidentiality of information maintained in this system of records and the information disclosed is relevant and necessary for that assistance.

Disclosures to Consumer Reporting Agencies:

None.

Policies and practices for storing, retrieving, accessing, retaining, and disposing of records in the system:

Storage:

Records are stored electronically at the Social Security Administration's National Computer Center. Historical logs and system backups are stored off-site at an alternate location.

Retrievability:

Records can be retrieved by an identification number assigned to a child support case by the State child support agency or an SSN of an individual.

Safeguards:

Specific administrative, technical and physical controls are in place to ensure that the records collected and maintained in the FCR are secure from unauthorized access. Access to the records is restricted to authorized personnel who are advised of the confidentiality of the records and the civil and criminal penalties for misuse and who sign a nondisclosure oath to that effect. Personnel are provided privacy and security training before being granted access to the records and annually thereafter.

Logical access controls are in place to limit access to the records to authorized personnel and to prevent browsing. The records are processed and stored in a secure environment.

All records are stored in an area that is physically safe from access by unauthorized persons at all times.

Safeguards conform to the HHS Information Security Program, http://www.hhs.gov/ocio/securityprivacy/index.html.

Retention and Disposal:

(1) Records provided from State child support agencies. (a) Electronic records furnished by the State child support agency containing child support case and order information (input files) are retained for 60 days and then deleted. (b) State agency records (as posted to the FCR) remain within the FCR until removed, upon notification by the State agency that the case is closed and notifies OCSE to remove it from the FCR, provided that, upon request, a sample may be retained for research purposes found by OCSE to be likely to contribute to achieving the purposes of child support programs or the TANF program, but without personal identifiers. (c) Records pertaining to closed cases are archived on the fiscal year basis and retained for two years. Family violence indicators are removed from the individual's record, upon request by the State that initiated the indicator. (2) Locate requests and match results. (a) Locate requests submitted by State child support agencies and other authorized persons are retained for 60 days and are then deleted. (b) Audit trail records of locate requests and disclosures of match results pursuant to those requests, which include indications of which Federal agencies were contacted for locate information, whether information was located, and the type(s) of information returned to the requesting entity are archived once a year based on the fiscal year. The records are retained for two completed fiscal years and then destroyed. These records indicate the type of information located for the authorized user, not the information itself. (c) Records containing information from the NDNH or from other agencies obtained pursuant to locate requests are provided to authorized persons through the FCR. Copies of records provided are then retained within the FCR for the purpose of electronically filtering and suppressing redundant information from being provided. NDNH information is retained within the FCR for one year and information from other agencies is retained for up to three years. Thereafter such information is deleted. (3) Match results generated as a result of FCR to FCR comparisons which locate individuals who are participants in child support cases or orders in more than one State are transmitted to the relevant States. Copies of FCR to FCR match results are retained for 60 days and then deleted. (4) Any record relating or potentially relating to a fraud or abuse investigation or a pending or ongoing legal action including a class action, is retained until conclusion of the investigation or legal action. (5) Copies of the FCR records transmitted annually to the IRS for the purpose of administering the earned income tax credit (routine use 12) are retained for one year and then deleted.

System manager(s) and address:

Director, Division of Federal Systems, Office of Automation and Program Operations, Office of Child Support Enforcement, Administration for Children and Families, Department of Health and Human Services, 370 L'Enfant Promenade, SW., 4th Floor East, Washington, DC 20447.

Notification procedures:

Individuals seeking to determine whether this system of records contains information about themselves should address written inquiries to the System Manager. The request should include the name, telephone number and/or email address, SSN, and address of the individual, and the request must be signed by the individual to whom such information pertains. The requester's letter must provide sufficient particulars to enable the System Manager to distinguish between records on subject individuals with the same name. Verification of identity as described in HHS's Privacy Act regulations may be required. 45 CFR 5b.5.

Record access procedures:

Individuals seeking access to a record about themselves in this system of records should address written inquiries to the System Manager. The request should include the name, telephone number and/or email address, SSN, and address of the individual, and should be signed by the individual to whom such information pertains. The requester's letter must provide sufficient particulars to enable the System Manager to distinguish between records on subject individuals with the same name. Verification of identity as described in HHS's Privacy Act regulations may be required. 45 CFR 5b.5.

Contesting record procedures:

Individuals seeking to amend a record about themselves in this system of records should address the request for amendment to the System Manager. The request should (1) include the name, telephone number and/or email address, SSN, and address of the individual, and should be signed by the individual to whom such information pertains; (2) identify the system of records that the individual believes includes his or her records or otherwise provide enough information to enable the identification of the individual's record; (3) identify the information that the individual believes is not accurate, relevant, timely, or complete; (4) indicate what corrective action is sought; and (5) include supporting justification or documentation for the requested amendment. Verification of identity as described in HHS's Privacy Act regulations may be required. 45 CFR 5b.5.

Record source categories:

Records maintained within the FCR are furnished by State child support agencies. Records disseminated from the FCR for the purpose of providing locate information from the NDNH and other Federal agencies are furnished by departments, agencies, or instrumentalities of the United States or any State, employers, financial institutions, and insurers or their agents. Records maintained for the purpose of filtering redundant data are also furnished by these sources.

Exemptions claimed for the system:

The portions of this system consisting of investigatory material compiled for law enforcement purposes have been exempted pursuant to 5 U.S.C. 552a(k)(2) from the following provisions of the Privacy Act, subject to the limitations set forth in that subsection and to the limitation in 42 U.S.C. 653(b)(2): 5 U.S.C. 552a(c)(3) and (d).

[FR Doc. 2010-33295 Filed 1-4-11; 8:45 am]

BILLING CODE 4184-42-P